DEPARTMENT OF ENERGY

Agency Information Collection Extension

AGENCY: Department of Energy.

ACTION: Notice of request for comments.

SUMMARY: The Department of Energy (DOE) invites public comment on a proposed collection of information that DOE is developing for submission to the Office of Management and Budget (OMB) pursuant to the Paperwork Reduction Act of 1995.

DATES: Comments regarding this proposed information collection must be received on or before April 5, 2023. If you anticipate that you will be submitting comments but find it difficult to do so within the period of time allowed by this notice, please advise the DOE Desk Officer at OMB of your intention to make a submission as soon as possible. The Desk Officer may be telephoned at (202) 395-4718.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Ping Ge, Office of Workforce Development for Teachers and Scientists—SC 3.3, U.S. Department of Energy, 1000 Independence Avenue SW, Washington, DC 20585; (202) 287-6490; sc.wdts@science.doe.gov.

SUPPLEMENTARY INFORMATION: Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-NEW.

(2) Information Collection Request Titled: Office of Workforce Development for Teachers and Scientists (WDTS) Workforce Development Highlights.

(3) Type of Review: New.

(4) Purpose: The WDTS Workforce Development Highlights will provide insight to the experience of participants in WDTS lab-based programs. Edited versions of the information submitted by respondents will be published to the WDTS website for prospective applicants to read and learn what it would be like to participate in WDTS lab-based programs.

(5) Annual Estimated Number of Respondents: 100.

(6) Annual Estimated Number of Total Responses: 100.

(7) Annual Estimated Number of Burden Hours: 100.

(8) Annual Estimated Reporting and Recordkeeping Cost Burden: $6,122.

Statutory Authority: Energy and Water Development Appropriations Bill, 2022.

Signing Authority

This document of the Department of Energy was signed on February 23, 2023, by Asmeret Asefaw Berhe, Director, Office of Science, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on March 1, 2023.
Treena V. Garrett,
Federal Register Liaison Officer, U.S. Department of Energy.

[FR Doc. 2023-04513 Filed 3-3-23; 8:45 am]

BILLING CODE 6450-01-P